DEPARTMENT OF ENERGY

Office of Energy Efficiency and Renewable Energy

Biomass Research and Development Technical Advisory Committee

AGENCY: Office of Energy Efficiency and Renewable Energy, Department of Energy.

ACTION: Notice of Open Meeting.

SUMMARY: This notice announces an open meeting of the Biomass Research and Development Technical Advisory Committee. The Federal Advisory Committee Act (Pub. L.92-463, 86 Stat. 770) requires that this document be published in the Federal Register.

DATES:

February 27, 2012 1:00 p.m.-6:30 p.m.

February 28, 2012 9:00 a.m.-5:00 p.m.

ADDRESSES: American Geophysical Union, 2000 Florida Avenue NW, Washington, DC 20009.

FOR FURTHER INFORMATION CONTACT: Elliott Levine, Designated Federal Officer, Office of Energy Efficiency and Renewable Energy, U.S. Department of Energy, 1000 Independence Avenue SW, Washington, DC 20585; Email: Elliott.Levine@ee.doe.gov or Roy Tiley at (410) 997-7778 ext. 220; Email: rtiley@bcs-hq.com.

SUPPLEMENTARY INFORMATION: Purpose of Meeting: To provide advice and guidance that promotes research and development leading to the production of biobased fuels and biobased products.

Tentative Agenda: Agenda will include the following:

• Update on USDA Biomass R&D Activities

• Update on DOE Biomass R&D Activities

• Overview of DOE and USDA R&D Programs

• Overview of Other Biomass R&D Agency Programs

Public Participation: In keeping with procedures, members of the public are welcome to observe the business of the Biomass Research and Development Technical Advisory Committee. To attend the meeting and/or to make oral statements regarding any of the items on the agenda, you must contact Elliott Levine by email at Elliott.Levine@ee.doe.gov or Roy Tiley at (410) 997-7778 ext. 220; Email: rtiley@bcs-hq.com at least 5 business days prior to the meeting. Members of the public will be heard in the order in which they sign up at the beginning of the meeting. Reasonable provision will be made to include the scheduled oral statements on the agenda. The Co-chairs of the Committee will make every effort to hear the views of all interested parties. If you would like to file a written statement with the Committee, you may do so either before or after the meeting. The Co-chairs will conduct the meeting to facilitate the orderly conduct of business.

Minutes: The minutes of the meeting will be available for public review and copying at the following Web site: http://biomassboard.gov/committee/meetings.html.

Issued at Washington, DC, on January 30, 2013.
LaTanya R. Butler,
Deputy Committee Management Officer.

[FR Doc. 2013-02603 Filed 2-5-13; 8:45 am]

BILLING CODE 6450-01-P